ENVIRONMENTAL PROTECTION AGENCY

40 CFR Part 52

[EPA-R10-OAR-2022-0115; FRL-9755-03-R10]

Air Plan Partial Approval and Partial Disapproval; AK, Fairbanks North Star Borough; 2006 24-Hour PM2.5 Serious Area and 189(d) Plan; Extension of Comment Period and Public Hearing

AGENCY: Environmental Protection Agency (EPA).

ACTION: Proposed rule; extension of comment period; and notification of public hearing.

SUMMARY: The Environmental Protection Agency (EPA) is announcing a public hearing to be held for the proposed action titled, “Air Plan Partial Approval and Partial Disapproval; AK, Fairbanks North Star Borough; 2006 24-hour PM2.5 Serious Area and 189(d) Plan” which was published in the Federal Register on January 10, 2023. The EPA is also announcing the extension of the comment period for the proposed rulemaking to allow for sufficient time after the public hearing for commenters to submit comments.

DATES:

Written comments: The comment period for the proposed rulemaking published January 10, 2023 (88 FR 1454), is extended. The EPA must receive comments on the proposed action on or before March 22, 2023.

Public hearing. A public hearing will be held on March 7, 2023, to provide interested parties the opportunity to present information and opinions to the EPA concerning the proposed action. For further information on the public hearing, please see the SUPPLEMENTARY INFORMATION section.

ADDRESSES:

Public hearing. The public hearing will be held at the Wood Center, University of Alaska Fairbanks, 1731 S Chandalar Drive, Fairbanks, AK 99775. Additional information on the public hearing is provided in the SUPPLEMENTARY INFORMATION section of this document.

Written Comments. Submit your written comments, identified by Docket ID No. EPA-R10-OAR-2022-0115, at https://www.regulations.gov. Please refer to the EPA's proposed action published in the Federal Register on January 10, 2023 (88 FR 1454), for instructions for submitting written comments.

FOR FURTHER INFORMATION CONTACT: Matthew Jentgen, EPA Region 10, 1200 Sixth Avenue—Suite 155, Seattle, WA 98101, (206) 553-0340, jentgen.matthew@epa.gov.

SUPPLEMENTARY INFORMATION: The EPA is holding a hearing on its proposed action on the Fairbanks North Star Borough 2006 24-hour PM2.5 Serious Area and 189(d) Plans. The EPA's proposed action was published in the Federal Register on January 10, 2023, (88 FR 1454).

The public hearing will be held on March 7, 2023, and will begin at 2 p.m. Alaska Standard Time (AKST). There will be a half hour break for dinner beginning at 5 p.m. The public hearing will re-start at 5:30 p.m. and will conclude at 8 p.m. AKST.

The hearing will be limited to the subject matter of the proposed action published in the Federal Register on January 10, 2023 (88 FR 1454). A 3-minute time limit may be placed on all oral testimony. The EPA may ask clarifying questions during oral testimony but will not respond to comments at that time. The EPA will not be providing equipment for commenters to show overhead slides or make computerized slide presentations. All oral testimony will be transcribed verbatim. The EPA will publish the verbatim transcript to the public docket for this action.

If you require the services of a translator or special accommodations such as audio description, please pre-register for the hearing by contacting the person in the FOR FURTHER INFORMATION CONTACT section of this document and describe your needs by March 1, 2023. The EPA may not be able to arrange accommodations without advance notice.

Written comments may also be submitted at the public hearing. Written statements and supporting information submitted during the comment period will be considered with the same weight as any oral comments and supporting information presented at the public hearing. The EPA recommends submitting the text of your oral comments as written comments to the rulemaking Docket ID No. EPA-R10-OAR-2022-0115, which can be found at https://www.regulations.gov.

In the final rule, the EPA will provide a written response to all relevant written and oral comments received during the comment period on the proposed rule. A transcript of the hearing and written comments will be made available upon request from the person listed in the FOR FURTHER INFORMATION CONTACT section in this document, and will be included in the public docket for this action.

Dated: February 13, 2023.
Krishnaswamy Viswanathan,
Director, Air and Radiation Division, Region 10.

[FR Doc. 2023-03419 Filed 2-16-23; 8:45 am]

BILLING CODE 6560-50-P